FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 11, 2013.

A. Federal Reserve Bank of Minneapolis (Jacqueline G. King, Community Affairs Officer) 90 Hennepin Avenue, Minneapolis, Minnesota 55480-0291:

1. Peter F. Lindholm, Long Lake, Minnesota, individually and as trustee of Peter F. Lindholm 2012 Irrevocable trust; to retain voting shares of Maple Banc Shares, Inc., and thereby indirectly retain voting shares of Bank of Maple Plain, both in Maple Plain, Minnesota.

Board of Governors of the Federal Reserve System, June 21, 2013.
Michael J. Lewandowski,
Assistant Secretary of the Board.

[FR Doc. 2013-15240 Filed 6-25-13; 8:45 am]

BILLING CODE 6210-01-P